DEPARTMENT OF ENERGY

Federal Energy Regulatory Commission

[Docket No. CP01-415-000]

East Tennessee Natural Gas Company; Notice of Availability of the Final Environmental Impact Statement for the Proposed Patriot Project

September 23, 2002.

The staff of the Federal Energy Regulatory Commission (FERC or Commission) has prepared a Final Environmental Impact Statement (FEIS) on the natural gas pipeline facilities proposed by East Tennessee Natural Gas Company (East Tennessee ) in the above-referenced docket.

The FEIS was prepared to satisfy the requirements of the National Environmental Policy Act. The staff concludes that approval of the proposed project with the appropriate mitigating measures as recommended, would have limited adverse environmental impact. The FEIS also evaluates alternatives to the proposal, including systems alternatives; major route alternatives; and route variations.

The FEIS assesses the potential environmental effects of the construction and operation of the following Patriot Project facilities, which consists of three components, the Mainline Expansion, the Patriot Extension, and the TVA Project facilities. East Tennessee proposes to expand its existing mainline pipelines in Tennessee and Virginia and extend a new pipeline from Virginia into North Carolina.

The Mainline Expansion involves improvements along East Tennessee's existing pipeline in Tennessee and Virginia, and includes construction of:

Approximately 73.6 miles of new pipeline loops;

Approximately 22.5 miles of pipeline abandonment and re-lay;

Approximately 71.3 miles of pipeline uprates;

Five new compressor stations (CS) and modifications at nine existing compressor stations, with a net increase in compression totaling 58,795 horsepower (hp); and

Associated mainline valves, piping, and other appurtenant pipeline facilities.

The Patriot Extension involves new pipeline facilities in Virginia and North Carolina, and includes construction of:

Approximately 92.7 miles of new pipeline (Line 3600), extending from the East Tennessee mainline in Virginia to a terminus at the Transcontinental Gas Pipe Line Corporation's (Transco) mainline pipeline in North Carolina;

Approximately 7.0 miles of new pipeline (Henry County Power Lateral [HCP Lateral]), extending from the Patriot Extension in North Carolina to the Henry County Power LLC (Henry County Power) energy facility in Virginia;

Three new meter stations;

Twenty pipeline taps; and

Associated mainline valves and appurtenant pipeline facilities.

The previously analyzed TVA Project facilities that are proposed to be incorporated into the Patriot Project include:

8.7 miles of pipeline loops;

5.4 miles of pipeline uprates;

1,590 hp of compression at an existing compressor station (CS 3206) on Line 3200; and

Installation of aerodynamic assemblies at two compressor stations (CSs 3206 and 3209) on Line 3200.

The purpose of the project is to provide natural gas to three electricity generation facilities (The Duke North America [DENA] Murray generating facility, DENA Wythe, LLC [DENA Wythe] energy project, and Henry County Power, LLC [Henry County Power] energy project) and interconnect with the existing Transco's 24-inch-diameter mainline in North Carolina. The Patriot Project is designed to initially transport 130,000 dekatherms per day (dth/day) of natural gas with an ultimate delivery capacity of 510,000 dth/day.

The FEIS has been placed in the public files of the FERC and is available for public inspection at: Federal Energy Regulatory Commission, Public Reference and Files Maintenance Branch, 888 First Street, NE, Room 2A, Washington, DC 20426, (202) 502-8371.

A limited number of copies of the FEIS are available from the Public Reference and Files Maintenance Branch identified above. Copies of the FEIS have been mailed to Federal, state and local agencies, public interest groups, individuals who have requested the FEIS, newspapers, and parties to this proceeding.

In accordance with the Council on Environmental Quality's (CEQ) regulations implementing the National Environmental Policy Act, no agency decision on a proposed action may be made until 30 days after the U.S. Environmental Protection Agency publishes a notice of availability of an FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at (202) 502-8222, TTY (202) 502-8659. The FERRIS link on the FERC Internet Web site also provides access to the texts of formal documents issued by the Commission, such as orders, notices, and rulemakings.

Linwood A. Watson, Jr.,
Deputy Secretary.

[FR Doc. 02-24690 Filed 9-27-02; 8:45 am]

BILLING CODE 6717-01-P